ARCHITECTURAL AND TRANSPORTATION BARRIERS COMPLIANCE BOARD

36 CFR Parts 1190 and 1191

[Docket No. 2007-04]

RIN 3014-AA22

Accessibility Guidelines for Emergency Transportable Housing

AGENCY: Architectural and Transportation Barriers Compliance Board.

ACTION: Notice of establishment; appointment of members; date of first meeting.

SUMMARY: The Architectural and Transportation Barriers Compliance Board (Access Board) has decided to establish an advisory committee to assist it in developing accessibility guidelines for emergency transportable housing. This notice also announces the time and place of the first committee meeting.

DATES: The first meeting of the committee is scheduled for September 24 and 25, 2007 beginning at 10 a.m. on September 24 and 9 a.m. on September 25 and ending at 5 p.m. on each day. Decisions with respect to future meetings will be made at the first meeting and from time to time thereafter.

ADDRESSES: The first meeting of the Committee will be held at the Access Board's offices, 1331 F Street, NW., suite 1000, Washington, DC.

FOR FURTHER INFORMATION CONTACT: Marsha Mazz, Office of Technical and Information Services, Architectural and Transportation Barriers Compliance Board, 1331 F Street, NW., suite 1000, Washington, DC 20004-1111. Telephone number (202) 272-0020 (Voice); (202) 272-0082 (TTY). These are not toll-free numbers. E-mail address: mazz@access-board.gov.

SUPPLEMENTARY INFORMATION: On June 25, 2007, the Architectural and Transportation Barriers Compliance Board (Access Board) published a notice of intent to establish an advisory committee to provide recommendations for possible revisions to the Americans with Disabilities Act (ADA) and Architectural Barriers Act (ABA) Accessibility Guidelines to include provisions for emergency transportable housing (72 FR 34652; June 25, 2007).

For the reasons stated in the notice of intent, the Access Board has determined that establishing the Emergency Transportable Housing Advisory Committee (Committee) is necessary and in the public interest. The Access Board has appointed the following organizations as members to the Committee:

• Advocacy Center.

• Coalition for Citizens with Disabilities.

• Department of Housing and Urban Development.

• Department of Justice.

• Federal Emergency Management Agency.

• Manufactured Housing Association for Regulatory Reform.

• Manufactured Housing Institute.

• National Center for Environmental Health Strategies, Inc.

• National Council on Independent Living.

• National Fire Protection Association.

• Recreation Park Trailer Industry Association.

• Recreation Vehicle Industry Association.

• United Spinal Association.

The Access Board regrets its inability to accommodate all requests for membership on the Committee. It was necessary to limit membership to maintain balance among members representing different interests such as disability organizations and the transportable housing industry. The Committee membership identified above provides representation for interests affected by the issues to be discussed.

Committee meetings will be open to the public, and interested persons can attend the meetings and communicate their views. Members of the public will have opportunities to address the Committee on issues of interest to them and the Committee. Members of groups or individuals who are not members of the Committee may also have the opportunity to participate if subcommittees of the Committee are formed. Additionally, all interested persons will have the opportunity to comment when proposed rules are issued in the Federal Register by the Access Board.

The meeting site is accessible to individuals with disabilities. Individuals who require sign language interpreters, real-time captioning, or materials in alternate formats should contact Marsha Mazz by September 14. Persons attending Committee meetings are requested to refrain from using perfume, cologne, and other fragrances for the comfort of other participants. Notices of future meetings will be published in the Federal Register.

Tricia Mason,
Chair, Architectural and Transportation Barriers Compliance Board.

[FR Doc. E7-16707 Filed 8-22-07; 8:45 am]

BILLING CODE 8150-01-P